DEPARTMENT OF HEALTH AND HUMAN SERVICES

National Institutes of Health

Office of the Director, Office of Biotechnology Activities; Notice of Meeting

There will be a workshop entitled “Retroviral and Lentiviral Vectors for Long-Term Gene Correction: Clinical Challenges in Vector and Trial Design.” The meeting will be open to the public; attendance is limited to space available. Individuals who plan to attend and need special assistance, such as sign language interpretation or other reasonable accommodations, should notify the Contact Person listed below in advance of the meeting.

Name of Committee: Recombinant DNA Advisory Committee.

Date: December 9, 2010.

Time: 8 a.m. to 5:30 p.m.

Date: December 10, 2010.

Time: 8 a.m. to 1 p.m.

Agenda: The Office of Biotechnology Activities (OBA), NIH Recombinant DNA Advisory Committee and the European Network for the Advancement of Clinical Gene Transfer (CliniGene) will host a workshop on Retroviral and Lentiviral Vectors for Long-Term Gene Correction: Clinical Challenges in Vector and Trial Design at the Bethesda Marriott on December 9 and 10, 2010. The meeting will cover the following topics: Developments in retrovirus and lentivirus integration and insertional mutagenesis research, including non-enhancer mediated mechanisms of insertional mutagenesis; modifications to retroviral and lentiviral vectors to enhance their safety; research on in vitro and animal models to evaluate the safety of human gene transfer; and ethical issues in the design of new clinical trials. The agenda is posted to OBA's Web site: http://oba.od.nih.gov/rdna_rac/rac_meetings.html. Please check the meeting agenda for more information.

Place: Bethesda Marriott, 5151 Pooks Hill Road, Bethesda, Maryland 20814.

Contact Person: Chezelle George, Program Assistant, Office of Science Policy, Office of Biotechnology Activities, National Institutes of Health, 6705 Rockledge Drive, Suite 750, Bethesda, MD 20892, 301-496-9838, 301-496-9839, georgec@mail.nih.gov.

Any interested person may file written comments with the panel by forwarding the statement to the Contact Person listed on this notice. The statement should include the name, address, telephone number and, when applicable, the business or professional affiliation of the interested person. Background information may be obtained by contacting NIH OBA by e-mail oba@od.nih.gov

Dated: November 1, 2010.
Jacqueline Corrigan-Curay,
Acting Director, Office of Biotechnology Activities, National Institutes of Health.

[FR Doc. 2010-28373 Filed 11-9-10; 8:45 am]

BILLING CODE 4140-01-P